DEPARTMENT OF THE INTERIOR

Bureau of Land Management

[NV-010-04-1020-DF]

Notice of Intent To Prepare an Environmental Impact Statement on Sensitive Bird Species in Three Grazing Allotments in Elko County, NV

AGENCY: Bureau of Land Management, Interior.

ACTION: Notice of Intent (NOI) to prepare an Environmental Impact Statement (EIS).

SUMMARY: In accordance with section 102(2)(C) of the National Environmental Policy Act of 1969 and regulations at 40 CFR Parts 1500-1508, the Bureau of Land Management, Elko Field Office, will be preparing an Environmental Impact Statement (EIS) on the effects of three multiple use decisions on sensitive bird species in three grazing allotments in Elko County, Nevada.

DATES: This Notice initiates the 30-day public scoping period. Within 30 days of the publication of this Notice, a public scoping meeting will be held at the BLM Elko Field Office, 3900 East Idaho Street, Elko, Nevada, to familiarize interested publics with the project and to identify issues and concerns to be addressed in the EIS. The scoping meeting will be announced through the local news media, newsletters, and the BLM Web site at www.nv.blm.gov/Elko at least 15 days prior to the event. Any additional public meetings, if necessary, will be announced similarly. Comments on issues can also be submitted in writing to the address listed below and for 30 days after publication of this Notice in the Federal Register. In addition to the ongoing public participation process, formal opportunities for public participation will be provided upon publication of the BLM Draft EIS.

ADDRESSES: You may submit comments by any of the following methods:

—E-mail: rlister@nv.blm.gov

—Fax: (775) 753-0255

—Mail: Send to the attention of the Sensitive Species EIS Project Manager, BLM Elko Field Office, 3900 East Idaho Street, Elko, NV 89801

Comments, including names and street addresses of respondents, will be available for public review at the above address during regular business hours, 7:30 a.m. to 4:30 p.m., Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be available for public inspection in their entirety.

FOR FURTHER INFORMATION CONTACT: Ray Lister, Project Manager at the Elko Field Office, 3900 E. Idaho Street, Elko, NV 89801. Telephone: (775) 753-0200. E-mail: rlister@nv.blm.gov.

SUPPLEMENTARY INFORMATION: The BLM is preparing this EIS to comply with a minute order issued by the Honorable Howard D. McKibben, U.S. District Judge, District of Nevada, on August 18, 2004 (CV-N-03-197-HDM(VPC)). The order followed a hearing on a complaint against three final multiple use decisions (Western Watersheds Project and Committee for the High Desert v. Clinton R. Oke, Assistant Field Manager, Elko Field Office, et al.). The final decisions, which were left intact by the judge, are for the Sheep Allotment Complex, Big Springs Allotment and Owyhee Allotment. The Sheep Allotment Complex and Big Springs Allotments are located in the southeastern portion of Elko County, Nevada, and the Owyhee Allotment is in the northwest portion of Elko County.

The order is to prepare the EIS with respect to burrowing owls, raptors and sage grouse on the Sheep Complex and the Owyhee Allotment, and sage grouse on the Big Springs Allotment. BLM will evaluate the impact of livestock grazing, to the extent applicable, to these sensitive bird species and consider springs, seeps, riparian areas and upland habitat.

Preparation of the EIS will require coordination with the Nevada Department of Wildlife (NDOW). NDOW previously supplied information and commented on allotment evaluations on which the multiple use decisions were based. NDOW will be requested to supply additional information on the species to be analyzed and invited to participate in preparation of the EIS, possibly as a cooperating agency.

Dated: September 23, 2004.
Helen M. Hankins,
Field Manager.

[FR Doc. 04-26870 Filed 12-7-04; 8:45 am]

BILLING CODE 4310-HC-P